NATIONAL SCIENCE FOUNDATION

Business and Operations Advisory Committee; Notice of Meeting

In accordance with Federal Advisory Committee Act (Pub. L. 92-463, as amended), the National Science Foundation announces the following meeting:

Name: Business and Operations Advisory Committee (9556).

Date/Time: November 19, 2008; 1 p.m. to 5:30 p.m. (EST); November 20, 2008; 8 a.m. to 12 p.m. (EST).

Place: National Science Foundation, 4201 Wilson Boulevard, Stafford II, Room 555.

Type of Meeting: Open.

Contact Person: Joan Miller, National Science Foundation, 4201 Wilson Boulevard, Arlington, VA 22230, (703) 292-8200.

Purpose of Meeting: To provide advice concerning issues related to the oversight, integrity, development and enhancement of NSF's business operations.

Agenda

November 19, 2008

PM: Welcome/Introductions; OIRM/CIO/BFA Updates; NSF Policy Updates; Science of Science Innovation Policy (SciSIP); BFA Human Capital Strategic Plan Update; B&O Advisory Committee: Strategic Directions and Planning.

November 20, 2008

AM: Committee Discussion: Prepare for Meeting with NSF Director; Discussion with Director; Continue Strategy and Planning Discussion & Prepare Recommendations; Committee Discussion/Wrap-Up.

Dated: October 29, 2008.
Susanne Bolton,
Committee Management Officer.

[FR Doc. E8-26111 Filed 10-31-08; 8:45 am]

BILLING CODE 7555-01-P